DEPARTMENT OF COMMERCE

National Oceanic and Atmospheric Administration

RIN 0648-XL89

Incidental Takes of Marine Mammals During Specified Activities; Marine Geophysical Survey in Southeast Asia, March-July 2009

AGENCY: National Marine Fisheries Service (NMFS), National Oceanic and Atmospheric Administration (NOAA), Commerce.

ACTION: Notice; proposed incidental take authorization; extension of comment period.

SUMMARY: On December 22, 2008, the NMFS announced notice of its proposed issuance of an Incidental Harassment Authorization (IHA) to Lamont-Doherty Earth Observatory (L-DEO), a part of Columbia University, to take small numbers of marine mammals, by harassment incidental to conducting a marine seismic survey in Southeast Asia during March-July 2009. Written comments were due by January 21, 2009. Under the unique circumstances of the timing of the publication of the Federal Register notice relative to several Federal holidays, NMFS has decided to extend the public comment period by 15 days, to February 5, 2009.

DATES: The public comment period for this action has been extended from January 21 to February 5, 2009. Written comments and information must be received no later than February 5, 2009.

ADDRESSES: Comments on the application should be addressed to P. Michael Payne, Chief, Permits, Conservation, and Education Division, Office of Protected Resources, National Marine Fisheries Service, 1315 East-West Highway, Room 13705, Silver Spring, MD 20910-3225. The mailbox address for providing email comments is PR1.0648-XL89@noaa.gov. Comments sent via email, including all attachments, must not exceed 10-megabyte file size.

FOR FURTHER INFORMATION CONTACT: Howard Goldstein, Office of Protected Resources, NMFS, 301-713-2289.

SUPPLEMENTARY INFORMATION: On December 22, 2008 (73 FR 78294), the NMFS announced notice of its proposed issuance of an Incidental harassment Authorization (IHA) to L-DEO, a part of Columbia University, to take small numbers of marine mammals by harassment incidental to conducting a marine seismic survey in Southeast Asia during March-July 2009. Under the unique circumstances of the timing of the publication of the Federal Register notice relative to several Federal holidays, NMFS had decided to extend the public comment period by 15 days, to February 5, 2009. The Federal Register notice published three days before the Christmas holiday, which fell on Thursday, December 25, 2008. The following day, Friday, December, 26, 2008 was declared a Federal holiday for executive branch departments and agencies. New Year's Day, a Federal holiday, was the following Thursday, January 1, 2009. In recognition of the fact that the timing of these three holidays led many workers to be away for much of the two-week period and some non-government organizations closed their offices during that period, NMFS' public comment period for this proposed action is hereby extended to February 5, 2009. NMFS is also aware that the proposed action is for a new geographical area rather than a renewal of a prior action, where the associated documents are lengthy and would likely not be familiar to many interested parties. Finally, NMFS does not anticipate that the comment period extension will delay its decision of whether to issue an IHA.

Background information concerning the proposed IHA can be found in the Federal Register notice and is not repeated here. For additional information about the IHA application and associated EA, please visit the website at: http://www.nmfs.noaa.gov/pr/permits/incidental.htm

Dated: January 12, 2009.
James H. Lecky,
Director, Office of Protected Resources, National Marine Fisheries Service.

[FR Doc. E9-981 Filed 1-15-09; 8:45 am]

BILLING CODE 3510-22-S